NUCLEAR REGULATORY COMMISSION

[NRC-2017-0169]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from July 4, 2017 to July 17, 2017. The last biweekly notice was published on July 18, 2017.

DATES: Comments must be filed by August 31, 2017. A request for a hearing must be filed by October 2, 2017.

ADDRESSES: You may submit comments by any of the following methods (unless this document describes a different method for submitting comments on a specific subject):

• Federal Rulemaking Web site: Go to http://www.regulations.gov and search for Docket ID NRC-2017-0169. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242, email: Paula.Blechman@nrc.gov.

SUPPLEMENTARY INFORMATION:

I. Obtaining Information and Submitting Comments

A. Obtaining Information

Please refer to Docket ID NRC-2017-0169, facility name, unit number(s), plant docket number, application date, and subject, when contacting the NRC about the availability of information for this action. You may obtain publicly-available information related to this action by any of the following methods:

• Federal Rulemaking Web site: Go to http://www.regulations.gov and search for Docket ID NRC-2017-0169.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0169, facility name, unit number(s), plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC's Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC, Docket Nos. 50-317 and 50-318, Calvert Cliffs Nuclear Power Plant, Unit Nos. 1 and 2, Calvert County, Maryland

Exelon Generation Company, LLC, Docket No. 72-8, Calvert Cliffs Independent Spent Fuel Storage Installation, Calvert County, Maryland

Exelon Generation Company, LLC, Docket Nos. 50-220 and 50-410, Nine Mile Point Nuclear Station, Units 1 and 2, Oswego County, New York

Exelon Generation Company, LLC, Docket No. 50-244, R.E. Ginna Nuclear Power Plant, Wayne County, New York

Date of amendment request: May 31, 2017. A publicly-available version is in ADAMS under Package Accession No. ML17164A149.

Description of amendment request: The amendments would revise the emergency plans for each facility by changing the emergency action level (EAL) schemes. The proposed changes are based on the Nuclear Energy Institute's (NEI's) guidance in NEI 99-01, Revision 6, “Development of Emergency Action Levels for Non-Passive Reactors,” which was endorsed by the NRC by letter dated March 28, 2013 (ADAMS Accession No. ML12346A463).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to Exelon's EAL schemes to adopt the NRC-endorsed guidance in NEI 99-01, Revision 6, do not reduce the capability to meet the emergency planning requirements established in 10 CFR 50.47 and 10 CFR part 50, appendix E. The proposed changes do not reduce the functionality, performance, or capability of Exelon's ERO [emergency response organization] to respond in mitigating the consequences of any design basis accident. The probability of a reactor accident requiring implementation of Emergency Plan EALs has no relevance in determining whether the proposed changes to the EALs reduce the effectiveness of the Emergency Plans. As discussed in Section D, “Planning Basis,” of NUREG-0654, Revision 1, “Criteria for Preparation and Evaluation of Radiological Emergency Response Plans and Preparedness in Support of Nuclear Power Plants”;

. . . The overall objective of emergency response plans is to provide dose savings (and in some cases immediate life saving) for a spectrum of accidents that could produce offsite doses in excess of Protective Action Guides (PAGs). No single specific accident sequence should be isolated as the one for which to plan because each accident could have different consequences, both in nature and degree. Further, the range of possible selection for a planning basis is very large, starting with a zero point of requiring no planning at all because significant offsite radiological accident consequences are unlikely to occur, to planning for the worst possible accident, regardless of its extremely low likelihood. . . .

Therefore, Exelon did not consider the risk insights regarding any specific accident initiation or progression in evaluating the proposed changes.

The proposed changes do not involve any physical changes to plant equipment or systems, nor do they alter the assumptions of any accident analyses. The proposed changes do not adversely affect accident initiators or precursors nor do they alter the design assumptions, conditions, and configuration or the manner in which the plants are operated and maintained. The proposed changes do not adversely affect the ability of Structures, Systems, or Components (SSCs) to perform their intended safety functions in mitigating the consequences of an initiating event within the assumed acceptance limits.

Therefore, the proposed changes do not involve a significant increase in the probability or consequences of an accident previously evaluated.

2. Does the proposed amendment create the possibility of a new or different kind of accident from any accident previously evaluated?

Response: No.

The proposed changes to Exelon's EAL schemes to adopt the NRC-endorsed guidance in NEI 99-01, Revision 6, do not involve any physical changes to plant systems or equipment. The proposed changes do not involve the addition of any new plant equipment. The proposed changes will not alter the design configuration, or method of operation of plant equipment beyond its normal functional capabilities. All Exelon ERO functions will continue to be performed as required. The proposed changes do not create any new credible failure mechanisms, malfunctions, or accident initiators.

Therefore, the proposed changes do not create the possibility of a new or different kind of accident from those that have been previously evaluated.

3. Does the proposed amendment involve a significant reduction in a margin of safety?

Response: No.

The proposed changes to Exelon's EAL schemes to adopt the NRC-endorsed guidance in NEI 99-01, Revision 6, do not alter or exceed a design basis or safety limit. There is no change being made to safety analysis assumptions, safety limits, or limiting safety system settings that would adversely affect plant safety as a result of the proposed changes.

There are no changes to setpoints or environmental conditions of any SSC or the manner in which any SSC is operated. Margins of safety are unaffected by the proposed changes to adopt the NEI 99-01, Revision 6 EAL scheme guidance. The applicable requirements of 10 CFR 50.47 and 10 CFR part 50, appendix E will continue to be met.

Therefore, the proposed changes do not involve any reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Exelon Generation Company, LLC, Docket Nos. 50-237 and 50-249, Dresden Nuclear Power Station (DNPS), Units 2 and 3, Grundy County, Illinois

Date of amendment request: May 3, 2017. A publicly-available version is in ADAMS under Accession No. ML17123A104.

Description of amendment request: The proposed amendment would revise the DNPS, Units 2 and 3, technical specifications by replacing the existing specifications related to Regulatory Guide 1.163, “Performance-Based Containment Leak-Test Program,” with a reference to Nuclear Energy Institute (NEI) 94-01, “Industry Guideline for Implementing Performance-Based Option of 10 CFR part 50, appendix J,” Revision 3-A, and the conditions and limitations specified in NEI 94-01, Revision 2-A, as the documents used by DNPS to implement the performance-based leakage testing program in accordance with Option B of 10 CFR part 50, appendix J.

Basis for proposed no significant hazards consideration determination: As required by 10 CFR 50.91(a), the licensee has provided its analysis of the issue of no significant hazards consideration, which is presented below.

1. Does the proposed amendment involve a significant increase in the probability or consequences of an accident previously evaluated?

Response: No.

The proposed activity involves revision of the Dresden Nuclear Power Station (DNPS) Technical Specification (TS) 5.5. 12. “Primary Containment Leakage Rate Testing Program,” to allow the extension of the DNPS, Units 2 and 3. Type A containment integrated leakage rate test (ILRT) interval to 15 years, and the extension of the Type C local leakage rate test interval to 75 months. The current Type A test interval of 120 months (i.e., 10 years) would be extended on a permanent basis to no longer than 15 years from the last Type A test. The existing Type C test interval of 60 months for selected components would be extended on a performance basis to no longer than 75 months. Extensions of up to nine months (i.e., total maximum interval of 84 months for Type C tests) are permissible only for non-routine emergent conditions.

The proposed extension does not involve either a physical change to the plant or a change in the manner in which the plant is operated or controlled. The containment is designed to provide an essentially leak tight barrier against the uncontrolled release of radioactivity to the environment for postulated accidents. As such,the containment and the testing requirements invoked to periodically demonstrate the integrity of the containment exist to ensure the plant's ability to mitigate the consequences of an accident, and do not involve the prevention or identification of any precursors of an accident.

The change in dose risk for changing the Type A, ILRT interval from three-per-ten years to once-per-fifteen-years, measured as an increase to the total integrated dose risk for all internal events accident sequences for DNPS, is 4.26E-02 person-roentgen equivalent man (rem)/year (0.27 percent (%)) using the Electric Power Research Institute (EPR) guidance with the base case corrosion included. The change in dose risk drops to 1.14E-02 person-rem/year (i.e., 0.07%) when using the EPRI Expert Elicitation methodology. The values calculated per the EPRI guidance are all lower than the acceptance criteria of less than or equal to 1.0 person-rem/year or less than 1.0% person-rem/year defined in Section 1.3 of Attachment 3 to this LAR (license amendment request).

Therefore, this proposed extension does not involve a significant increase in the probability of an accident previously evaluated.

As documented in NUREG-1493, “Performance-Based Containment Leak-Test Program,” dated January 1995, Types B and C tests have identified a very large percentage of containment leakage paths, and the percentage of containment leakage paths that are detected only by Type A testing is very small. The DNPS, Units 2 and 3 Type A test history supports this conclusion.

The integrity of the containment is subject to two types of failure mechanisms that can be categorized as: (1) Activity based, and, (2) time based. Activity based failure mechanisms are defined as degradation due to system and/or component modifications or maintenance. Local leak rate test requirements and administrative controls such as configuration management and procedural requirements for system restoration ensure that containment integrity is not degraded by plant modifications or maintenance activities. The design and construction requirements of the containment combined with the containment inspections performed in accordance with American Society of Mechanical Engineers (ASME) Section XI, and TS requirements serve to provide a high degree of assurance that the containment would not degrade in a manner that is detectable only by a Type A test. Based on the above, the proposed test interval extensions do not significantly increase the consequences of an accident previously evaluated.

The proposed amendment also deletes an exception previously granted in License Amendments Nos. 210 and 202 for DNPS, Units 2 and 3, respectively, to allow one-time extensions of the ILRT test frequency. This exception was for an activity that has already taken place; therefore, this deletion is solely a non-technical, editorial change that does not result in any alteration in how DNPS, Units 2 and 3 are operated.

Therefore, the proposed change does not result in a significant increase in the probability or consequences of an accident previously evaluated.

2. Does the proposed amendment create the possibility of a new or different kind of accident from any previously evaluated?

Response: No.

The proposed amendment to TS 5.5.12 involves the extension of the DNPS, Units 2 and 3 Type A containment test interval to 15 years and the extension of the Type C test interval to 75 months. The containment and the testing requirements to periodically demonstrate the integrity of the containment exist to ensure the plant's ability to mitigate the consequences of an accident.

The proposed change does not involve a physical modification to the plant (i.e., no new or different type of equipment will be installed), nor does it alter the design, configuration, or change the manner in which the plant is operated or controlled beyond the standard functional capabilities of the equipment.

The proposed amendment also deletes an exception previously granted under TS License Amendment Nos. 210 and 202 for Units 2 and 3, respectively to allow one-time extensions of the ILRT test frequency. This exception was for an activity that has already taken place; therefore, this deletion is solely a non-technical, editorial change that does not result in any alteration in how DNPS, Units 2 and 3 are operated.

Therefore, the proposed change does not create the possibility of a new or different kind of accident from any previously evaluated for DNPS, Units 2 and 3.

3. Does the proposed amendment involve a significant reduction in a margin of safety?

Response: No.

The proposed amendment to TS 5.5.12 involves the extension of the DNPS, Units 2 and 3 Type A containment test interval to 15 years and the extension of the Type C test interval to 75 months for selected components. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves the extension of the interval between Type A containment leak rate tests and Type C tests for DNPS, Units 2 and 3. The proposed surveillance interval extension is bounded by the 15-year ILRT interval and the 75-month Type C test interval currently authorized within NEI 94-01, Revision 3-A. Industry experience supports the conclusion that Types B and C testing detects a large percentage of containment leakage paths and that the percentage of containment leakage paths that are detected only by Type A testing is small. The containment inspections performed in accordance with ASME Code, Section Xl and TS serve to provide a high degree of assurance that the containment would not degrade in a manner that is detectable only by Type A testing. The combination of these factors ensures that the margin of safety in the plant safety analysis is maintained. The design, operation, testing methods and acceptance criteria for Types A, B, and C containment leakage tests specified in applicable codes and standards would continue to be met, with the acceptance of this proposed change, since these are not affected by changes to the Type A and Type C test intervals.

The proposed amendment also deletes an exception previously granted under TS License Amendments Nos. 210 and 202 for Units 2 and 3, respectively to allow one-time extensions of the ILRT test frequency for DNPS, Units 2 and 3. This exception was for an activity that has taken place; therefore, the deletion is solely a non-technical, editorial change that does not result in any alteration in how DNPS, Units 2 and 3 are operated and maintained. Thus, there is no reduction in any margin of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: David J. Wrona.

Exelon Generation Company, LLC, Docket No. 50-410, Nine Mile Point Nuclear Station, Unit 2, Oswego County, New York

Date of amendment request: May 31, 2017. A publicly-available version is in ADAMS under Accession No. ML17151A214.

Description of amendment request: The amendment would revise the Nine Mile Point Nuclear Station, Unit 2, Technical Specifications, to allow operation of ventilation systems with charcoal filters in accordance with Technical Specifications Task Force (TSTF) Improved Standard Technical Specifications Change Traveler, TSTF-522, Revision 0, “Revise Ventilation System Surveillance Requirements to Operate for 10 hours per Month” (ADAMS Accession No. ML100890316).

Basis for proposed no significant hazards consideration determination: As required by 10 CFR 50.91(a), the licensee has provided its analysis of the issue of no significant hazards consideration, which is presented below:

1. Does the proposed change involve a significant increase in the probability or consequences of an accident previously evaluated?

Response: No.

The proposed change replaces an existing Surveillance Requirement to operate the SGT [Standby Gas Treatment] System and CREF [Control Room Envelope Filtration] Systems equipped with electric heaters for a continuous 10-hour period every 31 days with a requirement to operate the systems for 15 continuous minutes with heaters operating, if needed.

These systems are not accident initiators, and therefore, these changes do not involve a significant increase in the probability of an accident. The proposed system and filter testing changes are consistent with current regulatory guidance for these systems and will continue to assure that these systems perform their design function which may include mitigating accidents. Thus, the change does not involve a significant increase in the consequences of an accident.

Therefore, it is concluded that this change does not involve a significant increase in the probability or consequences of an accident previously evaluated.

2. Does the proposed change create the possibility of a new or different kind of accident from any accident previously evaluated?

Response: No.

The proposed change replaces an existing Surveillance Requirement to operate the SGT System and CREF Systems equipped with electric heaters for a continuous 10-hour period every 31 days with a requirement to operate the systems for 15 continuous minutes with heaters operating, if needed.

The change proposed for these ventilation systems does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The proposed change replaces an existing Surveillance Requirement to operate the SGT System and CREF Systems equipped with electric heaters for a continuous 10-hour period every 31 days with a requirement to operate the systems for 15 continuous minutes with heaters operating, if needed.

The design basis for the ventilation systems' heaters is to heat the incoming air which reduces the relative humidity. The heater testing change proposed will continue to demonstrate that the heaters are capable of heating the air and will perform their design function. The proposed change is consistent with regulatory guidance.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-289, Three Mile Island Nuclear Station, Unit 1, Dauphin County, Pennsylvania

Date of amendment request: March 22, 2017. A publicly-available version is in ADAMS under Accession No. ML17081A425.

Description of amendment request: The amendment would make administrative changes to Three Mile Island, Unit 1, Technical Specifications (TSs). In particular, the proposed amendment would (1) update TS 5.4.2 for the current number of fuel assemblies and number of reactor cores that are stored in Spent Fuel Pool A; (2) revise TS 6.1.2 requirements for the Chief Nuclear Officer to eliminate the annual management directive to all unit personnel responsible for the control room command function; and (3) delete the TS 6.2.2.2.d footnote that references Control Room Supervisors who do not possess a Senior Reactor Operator NRC License.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not involve the modification of any plant equipment or affect plant operation. The proposed changes will have no impact on any safety related structures, systems, or components. The proposed changes are administrative in nature and there are no changes to the conduct of control room licensed operators during evaluated accidents.

Therefore, the proposed changes do not involve a significant increase in the probability or consequences of an accident previously evaluated.

2 Does the proposed amendment create the possibility of a new or different kind of accident from any accident previously evaluated?

Response: No.

The proposed changes have no impact on the design, function or operation of any plant structure, system or component. The proposed changes do not affect plant equipment or accident analyses. The proposed changes are administrative in nature.

Therefore, the proposed changes do not create the possibility of a new or different kind of accident from any accident previously evaluated.

3. Does the proposed amendment involve a significant reduction in a margin of safety?

Response: No.

The proposed changes do not adversely affect existing plant safety margins or the reliability of the equipment assumed to operate in the safety analyses. There is no change being made to safety analysis assumptions, safety limits or limiting safety system settings that would adversely affect plant safety as a result of the proposed changes. Margins of safety associated with fission product barriers are unaffected by proposed administrative changes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

FirstEnergy Nuclear Operating Company, et al., Docket No. 50-334, Beaver Valley Power Station (BVPS) Unit No. 1 (BVPS-1), Beaver County, Pennsylvania

FirstEnergy Nuclear Operating Company, et al., Docket No. 50-346, Davis-Besse Nuclear Power Station (DBNPS), Unit No. 1, Ottawa County, Ohio

Date of amendment request: May 18, 2017. A publicly-available version is in ADAMS under Accession No. ML17138A381.

Description of amendment request: By NRC's Order dated April 15, 2016 (ADAMS Accession No. ML16078A092), which approved the transfer of certain sale-leaseback ownership of the Perry Nuclear Power Plant to FirstEnergy Nuclear Generation, LLC (FENGen or FENGenCo), the NRC accepted the change from FirstEnergy Corp. (FE) to FirstEnergy Solutions Corp. (FES) providing the $400 million support agreement. The NRC reaffirmed FES as the provider of the financial support agreement in the recently approved transfer of ownership for BVPS, Unit No. 2, dated April 14, 2017 (ADAMS Accession No. ML17081A433, Nonproprietary Safety Evaluation). The proposed amendment would conform the BVPS-1 and DBNPS Renewed Operating Licenses (ROLs) to reflect that FES is providing the $400 million support agreement instead of FE.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes revise license conditions in the BVPS-1 and DBNPS ROLs by changing the company that provides a financial support agreement for FirstEnergy Nuclear Generation, LLC (FENGen). The NRC has stated that FENGen has adequate financial qualifications for operating Beaver Valley Power Station, Units No. 1 and 2; Davis-Besse Nuclear Power Station, Unit No. 1; and Perry Nuclear Power Plant, Unit No. 1. The proposed change also revises the DBNPS renewed operating license condition to indicate that there is only one support agreement. The proposed changes do not affect the requirements of the license conditions. The proposed ROL changes do not alter the design or operation of either BVPS-1 or DBNPS. As a result, accident analyses at either facility has not been affected.

Therefore, the proposed change does not involve a significant increase in the probability or consequences of an accident previously evaluated.

2. Does the proposed amendment create the possibility of a new or different kind of accident from any accident previously evaluated?

Response: No.

The proposed changes revise license conditions in the BVPS-1 and DBNPS ROLs by changing the company that provides a financial support agreement for FENGen. The proposed change also revises the DBNPS renewed operating license condition to indicate that there is only one support agreement. The NRC has stated that FENGen has adequate financial qualifications. The proposed changes do not affect the requirements of the license conditions. The proposed ROL changes do not alter the design or operation of either BVPS-1 or DBNPS. No new equipment has been incorporated into the plant design or operation.

Therefore, the proposed change does not create the possibility of a new or different kind of accident from any accident previously evaluated.

3. Does the proposed amendment involve a significant reduction in a margin of safety?

Response: No.

The proposed changes revise license conditions in the BVPS-1 and DBNPS ROLs by changing the company that provides a financial support agreement for FENGen. The proposed change also revises the DBNPS renewed operating license condition to indicate there is only one support agreement. The NRC has stated that FENGen has adequate financial qualifications. The proposed changes do not affect the requirements of the license conditions. The proposed ROL changes do not alter the design or operation of either BVPS-1 or DBNPS. No new equipment has been incorporated into the plant design or operation.

Therefore, the proposed change does not involve a significant reduction in margin of safety.

The NRC staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Mail Stop A-GO-15, Akron, OH 44308.

NRC Branch Chief: David J. Wrona.

FirstEnergy Nuclear Operating Company, Docket No. 50-440, Perry Nuclear Power Plant (PNPP), Unit No. 1, Lake County, Ohio

Date of amendment request: June 8, 2017. A publicly-available version is in ADAMS under Accession No. ML17159A720.

Description of amendment request: The proposed amendment would revise PNPP technical specifications (TSs) to reflect previously approved license basis changes as part of the alternative source term initiative; align some TS sections with NUREG-1434, Revision 4, “Standard Technical Specifications—General Electric BWR [Boiling-Water Reactor]/6 Plants”; and delete two TS sections.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment involves incorporating technical specification changes that reflect previously approved license basis changes as part of the alternative source term (AST) initiative, aligns some TS sections with NUREG-1434, Revision 4, and deletes two TS sections. The proposed amendment does not affect any accident mitigating feature or increase the likelihood of malfunction for plant structures, systems and components.

Verification of operating the plant within prescribed limits will continue to be performed, as currently required by the applicable TS surveillance requirements. Compliance with and continued verification of the prescribed limits support the capability of the systems to perform their required design functions during all plant operating, accident, and station blackout conditions, consistent with the plant safety analyses.

The proposed amendment will not change any of the analyses associated with the PNPP Updated Safety Analysis Report Chapter 15 accidents because accident initiators and accident mitigation functions remain unchanged. The proposed amendment does not alter any assumptions previously made relative to evaluating the consequences of an accident.

Therefore, the proposed amendment does not involve a significant increase in the probability or consequences of an accident previously evaluated.

2. Does the proposed amendment create the possibility of a new or different kind of accident from any accident previously evaluated?

Response: No.

The proposed amendment does not involve physical alterations to the plant. No new or different type of equipment will be installed and there are no physical modifications required to existing installed equipment associated with the proposed changes. The proposed amendment does not create a credible failure mechanism, malfunction, or accident initiator not already considered in the design and licensing basis.

Therefore, the proposed amendment does not create the possibility of a new or different kind of accident from any accident previously evaluated.

3. Does the proposed amendment involve a significant reduction in a margin of safety?

Response: No.

Safety margins are applied to design and licensing basis functions and to the controlling values of parameters to account for various uncertainties and to avoid exceeding regulatory or licensing limits. The proposed amendment does not require a physical change to the plant, or affect design and licensing basis functions or controlling values of parameters for plant systems, structures, and components.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: David J. Wrona.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of amendment request: July 20, 2016.

Brief description of amendments: The amendments revised Technical Specifications 3.7.12, “Spent Fuel Pool Boron Concentration,” 3.7.18, “Dry Spent Fuel Storage Cask Loading and Unloading,” and 4.4, “Dry Spent Fuel Storage Cask Loading and Unloading,” to remove requirements that no longer pertain to independent spent fuel storage facility general licensed activities.

Date of issuance: July 12, 2017.

Effective date: As of the date of issuance and shall be implemented within 60 days of issuance.

Amendment Nos.: 404, 406, and 405. A publicly-available version is in ADAMS under Accession No. ML17167A265; documents related to these amendments are listed in the Safety Evaluation enclosed with the amendments.

Renewed Facility Operating License Nos. DPR-38, DPR-47 and DPR-55: Amendments revised the Renewed Facility Operating Licenses and Technical Specifications.

Date of initial notice in Federal Register: February 14, 2017 (82 FR 10593).

The Commission's related evaluation of the amendment is contained in a Safety Evaluation dated July 12, 2017.

No significant hazards consideration comments received: No.

Duke Energy Progress, LLC, Docket Nos. 50-325 and 50-324, Brunswick Steam Electric Plant, Units 1 and 2, Brunswick County, North Carolina

Date of amendment request: August 29, 2016.

Brief description of amendments: The amendments revised the technical specifications (TSs) to eliminate Section 5.5.6, “Inservice Testing Program.” A new defined term, “INSERVICE TESTING PROGRAM,” is added to the TSs. All existing references to the “Inservice Testing Program” in the TS surveillance requirements (SRs) are replaced with “INSERVICE TESTING PROGRAM” so that the SRs refer to the new definition in lieu of the deleted program.

Date of issuance: July 12, 2017.

Effective date: As of date of issuance and shall be implemented within 90 days of issuance.

Amendment Nos.: 278 (Unit 1) and 306 (Unit 2). A publicly-available version is in ADAMS under Accession No. ML17130A780; documents related to these amendments are listed in the Safety Evaluation enclosed with the amendments.

Renewed Facility Operating License Nos. DPR-71 and DPR-62: Amendments revised the Renewed Facility Operating Licenses and TSs.

Date of initial notice in Federal Register: December 6, 2016 (81 FR 87967).

The Commission's related evaluation of the amendments is contained in a Safety Evaluation dated July 12, 2017.

No significant hazards consideration comments received: No.

Entergy Nuclear Operations, Inc., Docket No. 50-293, Pilgrim Nuclear Power Station, Plymouth County, Massachusetts

Date of amendment request: February 14, 2017, as supplemented by letter dated May 25, 2017.

Brief description of amendment: The amendment revised certain staffing and training requirements, reports, programs, and editorial changes contained in the Technical Specification (TS) Table of Contents; Section 1.0, “Definitions”; Section 4.0, “Design Features”; and Section 5.0, “Administrative Controls” that will no longer be applicable once Pilgrim Nuclear Power Station is permanently defueled.

Date of issuance: July 10, 2017.

Effective date: Upon the licensee's submittal of the certifications required by 10 CFR 50.82(a)(1) and shall be implemented within 60 days from the amendment effective date.

Amendment No.: 246. A publicly-available version is in ADAMS under Accession No. ML17066A130; documents related to this amendment are listed in the Safety Evaluation enclosed with the amendment.

Renewed Facility Operating License No. DPR-35: The amendment revised the Renewed Facility Operating License and TSs.

Date of initial notice in Federal Register: March 28, 2017 (82 FR 15380). The supplemental letter dated May 25, 2017, provided additional information that clarified the application, did not expand the scope of the application as originally noticed, and did not change the staff's proposed no significant hazards consideration determination as published in the Federal Register.

The Commission's related evaluation of the amendment is contained in a Safety Evaluation dated July 10, 2017.

No significant hazards consideration comments received: No.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of application for amendments: February 23, 2017, as supplemented by letter dated June 29, 2017.

Brief description of amendment: The amendments revised the operating licenses and technical specifications to remove time, cycle, or modification-related items. Additionally, the proposed amendments made editorial and formatting changes. The time, cycle, or modification-related items have been implemented or superseded and are no longer applicable.

Date of issuance: July 5, 2017, as supplemented by letter dated June 29, 2017.

Effective date: As of the date of issuance and shall be implemented within 60 days from the date of issuance.

Amendment Nos.: 193 for NPF-72, 193 for NPF-77, 198 for NPF-37, and 198 for NPF-66. A publicly-available version is in ADAMS under Accession No. ML17088A703; documents related to these amendments are listed in the Safety Evaluation enclosed with the amendments.

Facility Operating License Nos. NPF-72, NPF-77, NPF-37, and NPF-66: The amendments revised the Technical Specifications and License.

Date of initial notice in Federal Register: April 11, 2017 (82 FR 17459). The supplemental letter dated June 29, 2017, provided additional information that clarified the application, did not expand the scope of the application as originally noticed, and did not change the staff's original proposed no significant hazards consideration determination as published in the Federal Register.

The Commission's related evaluation of the amendments is contained in a Safety Evaluation dated July 5, 2017.

No significant hazards consideration comments received: No.

South Carolina Electric & Gas Company, Docket Nos. 52-027 and 52-028, Virgil C. Summer Nuclear Station (VCSNS), Units 2 and 3, Fairfield, South Carolina

Date of amendment request: December 6, 2017, as supplemented by letter dated May 25, 2017.

Description of amendment: The amendments consisted of changes to the VCSNS Units 2 and 3 Updated Final Safety Analysis Report (UFSAR) in the form of departures from plant-specific Design Control Document Tier 2 information, Combined License (COL) Appendix A Technical Specifications (TSs), and COL Appendix C information. The departures consisted of in-containment refueling water storage tank (IRWST) minimum volume changes in plant-specific UFSAR Table 14.3-2, COL Appendix A TSs 3.5.6, 3.5.7 and 3.5.8 and Surveillance Requirements 3.5.6.2 and 3.5.8.2 and COL Appendix C (and associated plant-specific Tier 1) Table 2.2.3-4. The changes restored the desired consistency of these sections with the UFSAR IRWST minimum volume value in other locations.

Date of issuance: June 16, 2017.

Effective date: As of the date of issuance and shall be implemented within 30 days of issuance.

Amendment No.: 75. A publicly-available version is in ADAMS under Accession No. ML17135A327; documents related to this amendment are listed in the Safety Evaluation enclosed with the amendment.

Facility Combined Licenses Nos. NPF-93 and NPF-94: Amendments revised the Facility Combined Licenses.

Date of initial notice in Federal Register: January 24, 2017 (82 FR 8220). The supplemental letter dated May 25, 2017, provided additional information that clarified the application, did not expand the scope of the application request as originally noticed, and did not change the staff's original proposed no significant hazards consideration determination as published in the Federal Register.

The Commission's related evaluation of the amendment is contained in the Safety Evaluation dated June 16, 2017.

No significant hazards consideration comments received: No.

STP Nuclear Operating Company, Docket Nos. 50-498 and 50-499, South Texas Project (STP), Units 1 and 2, Matagorda County, Texas

Date of amendment request: June 19, 2013, as supplemented by letters dated October 3, October 31, November 13, November 21, and December 23, 2013 (two letters); January 9, February 13, February 27, March 17, March 18, May 15 (two letters), May 22, June 25, and July 15, 2014; March 10, March 25, and August 20, 2015; April 13, May 11, June 9, June 16, July 18, July 21 (two letters), July 28, September 12, October 20, November 9, and December 7, 2016; and January 19, 2017.

Brief description of amendment: The amendments authorized revision of the licensing basis for Facility Operating License Nos. NPF-76 and NPF-80, for STP, Units 1 and 2, as documented in the Updated Final Safety Analysis Report and revise the Technical Specifications (TSs). The changes authorized use of a deterministic bounding calculation based on plant-specific testing, and a risk-informed approach to address safety issues discussed in Generic Safety Issue 191, “Assessment of Debris Accumulation on PWR [Pressurized-Water Reactor] Sump Performance,” and to resolve the concerns in Generic Letter 2004-02, “Potential Impact of Debris Blockage on Emergency Recirculation during Design Basis Accidents at Pressurized-Water Reactors,” dated September 13, 2004, for STP, Units 1 and 2.

Date of issuance: July 11, 2017.

Effective date: As of the date of issuance and shall be implemented within 90 days of issuance.

Amendment Nos.: Unit 1-212; Unit 2-198. A publicly-available version is in ADAMS under Accession No. ML17019A001; documents related to these amendments are listed in the Safety Evaluation enclosed with the amendments.

Facility Operating License Nos. NPF-76 and NPF-80: The amendments revised the Facility Operating Licenses and TSs.

Date of initial notice in Federal Register: February 16, 2016 (81 FR 7843). The supplemental letters dated April 13, May 11, June 9, June 16, July 18, July 21 (two letters), July 28, September 12, October 20, November 9, and December 7, 2016; and January 19, 2017, provided additional information that clarified the application, did not expand the scope of the application as originally noticed, and did not change the staff's original proposed no significant hazards consideration determination as published in the Federal Register.

The Commission's related evaluation of the amendments is contained in a Safety Evaluation dated July 11, 2017.

No significant hazards consideration comments received: No.

Tennessee Valley Authority, Docket No. 50-391, Watts Bar Nuclear Plant (WBN), Unit 2, Rhea County, Tennessee

Date of amendment request: November 23, 2016, as supplemented by letters dated February 16, 2017, and June 9, 2017.

Brief description of amendment: The amendment revised Technical Specification Surveillance Requirement (SR) 3.0.2 to extend, on a one-time basis, SRs listed in Attachments 5, 6, 7, 9, 12, 13, 14, 15, 16, and 17 to Enclosure 1 of the application that are normally performed on an 18-month frequency in conjunction with a refueling outage. The change extends the due date for these SRs to October 31, 2017, which allows these SRs to be performed during the first refueling outage for WBN, Unit 2.

Date of issuance: July 11, 2017.

Effective date: As of the date of issuance and shall be implemented within 7 days of issuance.

Amendment No.: 13. A publicly-available version is in ADAMS under Accession No. ML17180A024; documents related to this amendment are listed in the Safety Evaluation enclosed with the amendment.

Facility Operating License No NPF-96: Amendment revised the Facility Operating License and Technical Specifications.

Date of initial notice in Federal Register: January 17, 2017 (82 FR 4932). The supplemental letters dated February 16, 2017, and June 9, 2017, provided additional information that clarified the application, did not expand the scope of the application as originally noticed, and did not change the NRC staff's original proposed no significant hazards consideration determination as published in the Federal Register.

The Commission's related evaluation of the amendment is contained in a Safety Evaluation dated July 11, 2017.

No significant hazards consideration comments received: No.

Dated at Rockville, Maryland, this 21st day of July 2017.
For the Nuclear Regulatory Commission.
Anne T. Boland,
Director, Division of Operating Reactor Licensing, Office of Nuclear Reactor Regulation.

[FR Doc. 2017-15986 Filed 7-31-17; 8:45 am]

BILLING CODE 7590-01-P